DEPARTMENT OF THE TREASURY

Internal Revenue Service

26 CFR Part 1

[TD 9390]

RIN 1545-BE37

Standards for Recognition of Tax-Exempt Status if Private Benefit Exists or if an Applicable Tax-Exempt Organization Has Engaged in Excess Benefit Transaction(s); Correction

AGENCY: Internal Revenue Service (IRS), Treasury.

ACTION: Correcting amendment.

SUMMARY: This document contains corrections to final regulations (TD 9390) that were published in the Federal Register on Friday, March 28, 2008 (73 FR 16519) clarifying the substantive requirements for tax exemption under section 501(c)(3) of the Internal Revenue Code. These final regulations also contain provisions that clarify the relationship between the substantive requirements for tax exemption under section 501(c)(3) and the imposition of section 4958 excise taxes on excess benefit transactions.

DATES: This correction is effective April 29, 2008 and is applicable on March 28, 2008.

FOR FURTHER INFORMATION CONTACT: Galina Kolomietz, (202) 622-7971 (not a toll-free number).

SUPPLEMENTARY INFORMATION:

Background

The final regulations that are the subject of this document are under sections 501(c)(3) and 4958 of the Internal Revenue Code.

Need for Correction

As published, final regulations (TD 9390) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

§ 1.501(c)(3)-1 [Amended]

Par. 2. Section 1.501(c)(3)-1 is amended as follows:

1. In paragraph (d)(1)(iii) Example 2. (ii), in the second sentence, the language “As a result, the sole activity of O serves the private interests of these artists.” is removed and the language “As a result, the principal activity of O serves the private interests of these artists.” is added in its place.

2. In paragraph (f)(2)(iv) Example 2. (iii), in the sixth sentence, the language “Beginning in Year 4, however, as O's exempt function activities grow, the size and scope of the excess benefit transactions that occurred in Year 3 become less and less significant as compared to the size and extent of O's regular and ongoing exempt function activities.” is removed and the language “Beginning in Year 4, however, as O's exempt function activities grow, the size and scope of the excess benefit transactions that occurred in Year 3 become less and less significant as compared to the size and scope of O's regular and ongoing exempt function activities.” is added in its place.

3. In paragraph (f)(2)(iv) Example 4. (iii), in the fourth sentence, the language “By adopting a conflicts of interest policy and significant new contract review procedures and by terminating C, O has implemented safeguards that are reasonably calculated to prevent future violations.” is removed and the language “By adopting a conflicts of interest policy and new contract review procedures and by terminating C, O has implemented safeguards that are reasonably calculated to prevent future violations.” is added in its place.

* * * * *

LaNita Van Dyke,
Chief, Publications and Regulations Branch, Legal Processing Division, Associate Chief Counsel (Procedure and Administration).

[FR Doc. E8-9362 Filed 4-28-08; 8:45 am]

BILLING CODE 4830-01-P